DEPARTMENT OF TRANSPORTATION

Federal Aviation Administration

Thirtieth Meeting: Special Committee (213) Enhanced Flight Visions Systems/Synthetic Vision Systems (EFVS/SVS)

AGENCY: Federal Aviation Administration (FAA), U.S. Department of Transportation (DOT).

ACTION: Notice of thirtieth Special Committee 213 meeting.

SUMMARY: The FAA is issuing this notice to advise the public of the thirtieth Special Committee 213 meeting.

DATES: The meeting will be held October 20th-22nd from 8:30 a.m.-5:00 p.m.

ADDRESSES: The meeting will be held at National Institute of Aerospace Headquarters, 100 Exploration Way, Hampton, VA 23666, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of Special Committee 213. The agenda will include the following:

Tuesday, October 20, 2015

1. Plenary discussion (sign-in at 08:00 a.m.)

a. Introductions and administrative items

b. Review and approve minutes from last full plenary meeting

c. Review of terms of reference and update work product dates

d. WG1, WG2 and WG3 status updates

e. Industry updates

f. EFVS Workshop update

g. WG2 Draft Document

Wednesday, October 21, 2015

1. Plenary discussion

a. Demonstrations at NASA Langley

b. WG3 Draft Document

c. WG1 Discussion

Thursday, October 22, 2015

1. Plenary discussion

a. WG1 Draft Document

b. Administrative items (new meeting location/dates, action items etc.)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 30, 2015.
Latasha Robinson,
Management & Program Analyst, Next Generation, Enterprise Support Services Division, Federal Aviation Administration.

[FR Doc. 2015-25403 Filed 10-5-15; 8:45 am]

BILLING CODE 4910-13-P